DEPARTMENT OF TRANSPORTATION

Federal Aviation Administration

14 CFR Part 39

[Docket No. FAA-2015-2964; Directorate Identifier 2014-NM-206-AD; Amendment 39-18584; AD 2016-14-03]

RIN 2120-AA64

Airworthiness Directives; Airbus Airplanes

AGENCY: Federal Aviation Administration (FAA), Department of Transportation (DOT).

ACTION: Final rule.

SUMMARY: We are adopting a new airworthiness directive (AD) for all Airbus Model A319, A320, and A321 series airplanes. This AD is intended to complete certain mandated programs intended to support the airplane reaching its limit of validity (LOV) of the engineering data that support the established structural maintenance program. This AD requires reinforcing the forward pressure bulkhead at a certain stringer on both the left-hand and right-hand sides, and doing related investigative and corrective actions if necessary. We are issuing this AD to prevent fatigue cracking of the forward pressure bulkhead, which could result in reduced structural integrity of the airplane.

DATES: This AD becomes effective August 12, 2016.

The Director of the Federal Register approved the incorporation by reference of a certain publication listed in this AD as of August 12, 2016.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-2964.

Examining the AD Docket

You may examine the AD docket on the Internet at http://www.regulations.gov by searching for and locating Docket No. FAA-2015-2964; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to all Airbus Model A319, A320, and A321 series airplanes. The NPRM published in the Federal Register on July 30, 2015 (80 FR 45457) (“the NPRM”). The NPRM was intended to complete certain mandated programs intended to support the airplane reaching its LOV of the engineering data that support the established structural maintenance program. The NPRM proposed to require reinforcing the forward pressure bulkhead at a certain stringer on both the left-hand and right-hand sides, and doing related investigative and corrective actions if necessary. We are issuing this AD to prevent fatigue cracking of the forward pressure bulkhead, which could result in reduced structural integrity of the airplane.

The European Aviation Safety Agency (EASA), which is the Technical Agent for the Member States of the European Union, has issued EASA Airworthiness Directive 2014-0209, dated September 19, 2014 (referred to after this as the Mandatory Continuing Airworthiness Information, or “the MCAI”), to correct an unsafe condition on all Model A319, A320, and Model A321 series airplanes. The MCAI states:

During the A320 fatigue test campaign for Extended Service Goal (ESG), it was determined that fatigue damage could develop on the forward pressure bulkhead at Frame (FR) 35 on left hand (LH) side and right hand (RH) side.

This condition, if not detected and corrected, could affect the structural integrity of the aeroplane.

To address this potential unsafe condition, a reinforcement modification was developed, which has been published through Airbus Service Bulletin (SB) A320-53-1268 for in-service application to allow aeroplanes to operate up to the new ESG limit.

For the reasons described above, this [EASA] AD requires reinforcement of the centre fuselage forward pressure bulkhead at FR35.

The forward pressure bulkhead reinforcement includes related investigative actions of measuring the diameters of certain fastener holes, and if they are not oversized, doing a rotating probe inspection for cracking of the fastener holes.

Required corrective actions include cold expanding crack-free holes or repairing oversize or cracked holes by using a method approved by the FAA, EASA, or Airbus's EASA Design Organization Approval (DOA).

You may examine the MCAI in the AD docket on the Internet at http://www.regulations.gov by searching for and locating Docket No. FAA-2015-2964-0002.

Comments

We gave the public the opportunity to participate in developing this AD. The following presents the comments received on the NPRM and the FAA's response to each comment.

Request To Reference Revised Service Information

American Airlines requested that we reference Revision 03 of Airbus Service Bulletin A320-53-1268, dated May 7, 2015, as the appropriate source of service information.

We agree with American Airlines' request. No additional work is specified by this revision for airplanes modified by any previous issue. We have revised paragraphs (g) and (h) of this AD to refer to Airbus Service Bulletin A320-53-1268, Revision 03, dated May 7, 2015; and revised paragraph (i) of this AD to also give credit for previous actions accomplished in accordance with Airbus Service Bulletin A320-53-1268, Revision 02, dated July 15, 2014.

Request for Applicability Clarification

United Airlines (UAL) stated that the effectivity of Airbus Service Bulletin A320-53-1268, Revision 02, dated July 15, 2014, does not match the NPRM applicability. UAL also stated that the NPRM applicability does not mention pre-modification 153832 airplanes, and that Airbus Service Bulletin A320-53-1268, Revision 02, dated July 15, 2014, is classified as Airbus Modification 153832.

UAL stated that several alternative methods of compliance (AMOCs) may be needed because Airbus will add to the effectivity of Airbus Service Bulletin A320-53-1268, Revision 02, dated July 15, 2014, after operators purchase an extended design service goal from Airbus.

We agree to clarify the applicability. The requirements of this AD apply to all airplanes identified in the applicability of the AD. If there is any conflict between the AD applicability and the service information effectivity, then the AD takes precedence. The applicability of this AD also matches the applicability of the corresponding MCAI AD.

If operators are planning to operate the airplane beyond the LOV of engineering data approved for the original type design, the actions specified in this AD must be done in order to address the identified unsafe condition. We acknowledge that AMOCs may be needed to allow the use of future revisions of the service information. Therefore, we encourage operators to coordinate with Airbus for effective planning and compliance with the AD requirements if they intend to operate their fleet beyond its LOV. We have not changed this final rule in this regard.

Request for Terminating Action Clarification

UAL questioned why there is no terminating action in the proposed AD. UAL stated that the reinforcement specified in this proposed AD is intended to prevent fatigue cracking of the forward pressure bulkhead but there is no reference to related inspection tasks or termination of existing Airworthiness Limitation Items (ALIs). UAL noted that, for example, ALI 533186 is applicable for pre-Mod 153832 (Airbus Service Bulletin A320-53-1268) airplanes. UAL stated this will cause confusion as to whether or not ALI inspections are required if there is no terminating action paragraph.

In regard to UAL's question on terminating action, ALI inspections must be accomplished on an airplane to be in compliance with the approved type design independent of the forward pressure bulkhead reinforcement required by this AD. Accomplishing the reinforcement does not preclude the need for ALI inspections.

However, when the effectivity of an ALI inspection identifies pre-modification airplanes, then it is not applicable to airplanes in a post-modification configuration. Thus, ALI inspections that are identified as pre-Mod 153832 (Airbus Service Bulletin A320-53-1268) do not affect airplanes on which the reinforcement specified in Airbus Service Bulletin A320-53-1268 has been done. We have not changed this AD in this regard.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued Service Bulletin A320-53-1268, Revision 03, dated May 7, 2015. The service information describes procedures for reinforcing the forward pressure bulkhead at frame 35, stringer 30, on both the left-hand and right-hand sides; and for doing repairs. This service information is reasonably available because the interested parties have access to it through their normal course of business or by the means identified in the ADDRESSES section of this AD.

Costs of Compliance

We estimate that this AD affects 48 airplanes of U.S. registry.

We also estimate that it will take about 21 work-hours per product to comply with the basic requirements of this AD. The average labor rate is $85 per work-hour. Based on these figures, we estimate the cost of this AD on U.S. operators to be $85,680, or $1,785 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-14-03 Airbus: Amendment 39-18584. Docket No. FAA-2015-2964; Directorate Identifier 2014-NM-206-AD.

(a) Effective Date

This AD becomes effective August 12, 2016.

(b) Affected ADs

None.

(c) Applicability

This AD applies to the Airbus airplanes, certificated in any category, identified in paragraphs (c)(1), (c)(2), and (c)(3) of this AD, all manufacturer serial numbers.

(1) Airbus Model A319-111, -112, -113, -114, -115, -131, -132, and -133 airplanes.

(2) Airbus Model A320-211, -212, -214, -231, -232, and -233 airplanes.

(3) Airbus Model A321-111, -112, -131, -211, -212, -213, -231, and -232 airplanes.

(d) Subject

Air Transport Association (ATA) of America Code 53, Fuselage.

(e) Reason

This AD is intended to complete certain mandated programs intended to support the airplane reaching its limit of validity (LOV) of the engineering data that support the established structural maintenance program. We are issuing this AD to prevent fatigue cracking of the forward pressure bulkhead, which could result in reduced structural integrity of the airplane.

(f) Compliance

Comply with this AD within the compliance times specified, unless already done.

(g) Reinforcement, Related Investigative Actions, and Corrective Actions

Before the accumulation of 48,000 total flight cycles or 96,000 total flight hours, whichever occurs first: Reinforce the forward pressure bulkhead at frame 35, stringer 30, on both the left-hand and right-hand sides; and do all applicable related investigative and corrective actions; in accordance with the Accomplishment Instructions of Airbus Service Bulletin A320-53-1268, Revision 03, dated May 7, 2015, except as provided by paragraph (h) of this AD. Do all applicable related investigative and corrective actions before further flight.

(h) Exception to Service Information Specifications

Although Airbus Service Bulletin A320-53-1268, Revision 03, dated May 7, 2015, specifies to contact Airbus for repair instructions, and specifies that action as “RC” (Required for Compliance), this AD requires repair before further flight using a method approved by the Manager, International Branch, ANM-116, Transport Airplane Directorate, FAA; or the European Aviation Safety Agency (EASA); or Airbus's EASA Design Organization Approval (DOA).

(i) Credit for Previous Actions

This paragraph provides credit for actions required by paragraph (g) of this AD, if those actions were performed before the effective date of this AD using any of the Airbus service information specified in paragraphs (i)(1) through (i)(3) of this AD. This service information is not incorporated by reference in this AD.

(1) Airbus Service Bulletin A320-53-1268, dated January 8, 2013, which is not incorporated by reference in this AD.

(2) Airbus Service Bulletin A320-53-1268, Revision 01, dated July 23, 2013, which is not incorporated by reference in this AD.

(3) Airbus Service Bulletin A320-53-1268, Revision 02, dated July 15, 2014, which is not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): Except as required by paragraph (h) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA AD 2014-0209, dated September 19, 2014, for related information. This MCAI may be found in the AD docket on the Internet at http://www.regulations.gov by searching for and locating Docket No. FAA-2015-2964.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1268, Revision 03, dated May 7, 2015.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 23, 2016.
Dorr M. Anderson,
Acting Manager, Transport Airplane Directorate, Aircraft Certification Service.

[FR Doc. 2016-15909 Filed 7-7-16; 8:45 am]

BILLING CODE 4910-13-P